DEPARTMENT OF HEALTH AND HUMAN SERVICES

Centers for Disease Control and Prevention

Rapid Expansion of Access to HIV/AIDS Prevention, Care, and Treatment Interventions in the Underserved Northern and Western Regions of the Republic of Côte d'Ivoire Under the President's Emergency Plan for AIDS Relief

Announcement Type: New.

Funding Opportunity Number: CDC-RFA-AA070.

Catalog of Federal Domestic Assistance Number: 93.067.

DATES: Application Deadline: September 9, 2005.

I. Funding Opportunity Description

Authority: This program is authorized under Sections 307 and 317(k)(2) of the Public Health Service Act [42 U.S.C. Sections 242l and 247b(k)(2)], as amended, and under Public Law 108-25 (United States Leadership against HIV/AIDS, Tuberculosis and Malaria Act of 2004) [22 U.S.C. 7601].

Background: President Bush's Emergency Plan for AIDS Relief has called for immediate, comprehensive and evidence-based action to turn the tide of global HIV/AIDS. The initiative aims to: treat more than two million HIV-infected people with effective combination anti-retroviral therapy (ART) by 2008; care for ten million HIV-infected and affected persons, including those orphaned by HIV/AIDS, by 2008; and prevent seven million infections by 2010, with a focus on 15 priority countries, including 12 in sub-Saharan Africa. The five-year strategy for the Emergency Plan is available at the following Internet address: http://www.state.gov/s/gac/rl/cll11652.htm.

Over the same time period, as part of a collective national response, the Emergency Plan goals specific to Côte d'Ivoire are to treat at least 77,000 HIV-infected individuals; care for 385,000 HIV-affected individuals, including orphans; and prevent 265,000 new HIV infections.

Purpose: The purpose of this funding announcement is to progressively build an indigenous, sustainable response to the national HIV epidemic through the rapid expansion of innovative, culturally appropriate, high-quality HIV/AIDS prevention and care interventions, improved linkages to confidential HIV counseling and testing (CT), prevention of mother-to-child HIV transmission (PMTCT), and HIV treatment services that target underserved populations, prioritizing those in the northern and western regions of Côte d'Ivoire, where health care has been disrupted since a 2002 armed rebellion, and remains difficult because of the ongoing politico-military crisis.

Under the leadership of the U.S. Global AIDS Coordinator, as part of the President's Emergency Plan, the U.S. Department of Health and Human Services (HHS) works with host countries and other key partners to assess the needs of each country and design a customized program of assistance that fits within the host nation's strategic plan.

This announcement is only for non-research activities supported by HHS, including the Centers for Disease Control and Prevention (CDC). If an applicant proposes research activities, HHS will not review the application. For the definition of research, please see the HHS/CDC Web site at the following Internet address: http://www.cdc.gov/od/ads/opspoll1.htm.

Measurable outcomes of the program will be in alignment with the numerical goals of the President's Emergency Plan and the following performance goals for the National Center for HIV, STD, and TB Prevention (NCHSTP) of CDC, within HHS: By 2010, work with other countries, international organizations, the U.S. Department of State, U.S. Agency for International Development (USAID), and other partners to achieve the United National General Assembly Special Session on HIV/AIDS goal of reducing prevalence among persons 15 to 24 years of age.

The goals of the Emergency Plan include the following:

A. Prevention

Number of individuals trained to provide HIV prevention interventions [Abstinence and Be Faithful (A/B); and for populations engaged in high-risk behavior,¹ correct and consistent condom use; other prevention; PMTCT].

¹ Behaviors that increase risk for HIV transmission include engaging in casual sexual encounters, engaging in sex in exchange for money or favors, having sex with an HIV-positive partner or one whose status is unknown, using drugs or abusing alcohol in the context of sexual interactions, and using intravenous drugs. Women, even if faithful themselves, can still be at risk of becoming infected by their spouse, regular male partner, or someone using force against them. Other high-risk persons or groups include men who have sex with men and workers who are employed away from home.

1. Abstinence (A) and Be Faithful (B)

a. Number of community outreach and/or mass-media (radio) HIV/AIDS prevention programs that are A/B focused.

b. Number of individuals reached through community outreach and/or mass-media (radio) HIV/AIDS prevention programs that are A/B focused.

2. PMTCT

a. Number of service outlets that provide the minimum package of PMTCT services (i.e., confidential antenatal counseling and testing (CT); anti-retroviral prophylaxis; nutritional guidance; and support, with links to voluntary family planning and supportive basic social services).

b. Number of pregnant women provided with PMTCT, including confidential CT.

c. Number of pregnant women provided with a complete course of anti-retroviral prophylaxis in a PMTCT setting.

d. Number of health workers newly trained or retrained in the provision of PMTCT.

B. Care and Support

1. Confidential Counseling and Testing (CT)

a. Number of CT service outlets that provide CT.

b. Number of clients who receive CT.

c. Number of people trained in CT.

2. Orphans and Vulnerable Children (OVC)

a. Number of service outlets/programs.

b. Number of clients (OVC) served.

c. Number of persons trained in caring for OVC.

3. Palliative Care: Basic Health Care and Support

a. Number of service outlets/programs that provide general HIV-related palliative care.

b. Number of service outlets/programs that provide malaria care and/or referral.

c. Number of clients served with general HIV-related palliative care.

d. Number of persons trained to provide general HIV-related palliative care.

C. HIV Treatment With Anti-Retrovirals (ARV)

1. Number of clients served.

2. Number of persons trained in HIV treatment.

D. Strategic Information

Number of persons trained in strategic information, according to guidance produced by the Office of the U.S. Global AIDS Coordinator.

E. Expanded Indigenous Sustainable Response

Project-specific quantifiable milestones will be required to measure:

1. Indigenous capacity-building.

2. Progress toward sustainability.

Activities: The recipient of these funds is responsible for activities in multiple HIV-related program areas designed to target underserved populations in the northern and western regions of Côte d'Ivoire. Either the awardee will implement activities directly or will implement them through its subgrantees and/or subcontractors; the awardee will retain overall financial and programmatic management under the oversight of HHS/CDC and the strategic direction of the Office of the U.S. Global AIDS Coordinator. The awardee must show a measurable progressive reinforcement of the capacity of indigenous organizations and local communities to respond to the national HIV epidemic, as well as progress towards the sustainability of activities.

The grantee will expand comprehensive HIV prevention and care, including: behavior-change communication (BCC); provision of supportive and palliative care to OVC and HIV affected families; and provision of/or linkages to PMTCT, CT and HIV treatment through health care centers, local non-governmental organizations (NGOs), community-based-organizations (CBOs) and/or faith-based organizations (FBOs), with a measurable and progressive reinforcement of the capacity of local structures to implement and sustain activities.

Applicants should describe activities, in detail, as part of a four-year action plan (U.S. Government Fiscal Years 2005-2008 inclusive) that reflects the policies and goals outlined in the five-year strategy for the President's Emergency Plan. The grantee will produce an annual operational plan in the context of this four-year plan, which the U.S. Government Emergency Plan team on the ground in Côte d'Ivoire will review as part of the annual Emergency Plan for AIDS Relief Country Operational Plan review and approval process managed by the Office of the U.S. Global AIDS Coordinator.

The grantee may work on some of the activities listed in this announcement in the first year and in subsequent years, and then progressively add others from the list to achieve all of the Emergency Plan performance goals as cited in the previous section. HHS/CDC, under the guidance of the U.S. Global AIDS Coordinator, will approve funds for activities on an annual basis, based on documented performance toward achieving Emergency Plan goals, as part of the annual Emergency Plan for AIDS Relief Country Operational Plan review and approval process.

Based on its competitive advantage and proven field experience, the winning applicant will undertake a broad range of activities to meet the numerical Emergency Plan targets outlined in this announcement. For each of these activities, the grantee will give priority to evidence-based, yet culturally adapted, innovative approaches including:

1. Assisting governmental and non-governmental structures, financially and/or technically, to re-establish and/or reinforce a range of prevention and palliative care interventions provided to persons living with HIV/AIDS (PLWHA) and their families in the regions where health care has been disrupted; and providing care, supported through a combination of technical assistance with capacity-building, and of small- to medium-size grants to local community- and faith-based organizations.

2. Implementation of BCC interventions, in partnership with local organizations (CBOs/NGOs/FBOs), journalist and artist networks, and traditional and elected authorities, in the geographic regions targeted, by building on existing tools and strategies. Interventions will respect and reflect local cultural and religious mores, and will aim to reduce HIV-related stigma; promote HIV testing as part of a comprehensive BCC strategy to reduce HIV transmission and as a routine part of medical care; and improve care, support, and treatment for PLWHA and family members, highly vulnerable youth, military, ex-combatants and other vulnerable populations. Evidence-based approaches will be used, which can include peer education, targeted condom social marketing to populations engaged in high-risk behavior,² and networking with links to HIV-related care and treatment. Awardees may not implement condom social marketing without also implementing the abstinence and faithfulness behavior-change interventions outlined above.

² Behaviors that increase risk for HIV transmission include engaging in casual sexual encounters, engaging in sex in exchange for money or favors, having sex with an HIV-positive partner or one whose status is unknown, using drugs or abusing alcohol in the context of sexual interactions, and using intravenous drugs. Women, even if faithful themselves, can still be at risk of becoming infected by their spouse, regular male partner, or someone using force against them. Other high-risk persons or groups include men who have sex with men and workers who are employed away from home.

3. Progressively build capacity members of AIDS service organizations (ASO) in program and financial management, monitoring and evaluation, resource mobilization, and/or the provision of community/home-based palliative care and anti-retroviral treatment.

4. Comply with all HHS/CDC management requirements for meeting participation and progress and financial reporting for this cooperative agreement. (See HHS/CDC activities and Reporting sections below for details.)

Administration

Willing applicants must comply with all HHS management requirements for meeting participation and progress and financial reporting for this cooperative agreement. (See HHS Activities and Reporting sections below for details.) Winning applicants must comply with all policy directives established by the Office of the U.S. Global AIDS Coordinator.

In a cooperative agreement, HHS staff is substantially involved in the program activities, above and beyond routine grant monitoring.

HHS Activities for this program are as follows:

1. Organize an orientation meeting to brief the grantee on applicable U.S. Government, HHS, and Emergency Plan expectations, regulations and key management requirements, as well as report formats and contents. The orientation could include meetings with staff from HHS agencies and the Office of the U.S. Global AIDS Coordinator.

2. Review and approve the process used by the grantee to select key personnel or post-award sub-contractors to be involved in the activities performed under this agreement, as part of the Emergency Plan for AIDS Relief Country Operational Plan review and approval process, managed by the Office of the U.S. Global AIDS Coordinator.

3. Review and approve grantee's annual work plan and detailed budget, as part of the Emergency Plan for AIDS Relief Country Operational Plan review and approval process, managed by the Office of the U.S. Global AIDS Coordinator.

4. Review and approve grantee's monitoring and evaluation plan, including for compliance with the strategic information guidance established by the Office of the U.S. Global AIDS Coordinator.

5. Meet with grantee, as necessary, to assess quarterly technical and financial progress reports and modify plans as necessary.

6. Meet on an annual basis with grantee to review annual progress report for each U.S. Government Fiscal Year, and to review annual work plans and budgets for subsequent year, as part of the Emergency Plan for AIDS Relief review and approval process for Country Operational Plans, managed by the Office of Global AIDS Coordinator.

7. Provide technical assistance, as mutually agreed upon and revised annually, during validation of the first and subsequent annual work plans. This can include expert technical assistance and targeted training activities in specialized areas, such as: strategic information; project management; confidential counseling and testing; palliative care; orphans and vulnerable children (OVC); treatment literacy; and adult learning techniques.

8. Provide in-country administrative support to help grantee meet U.S. Government financial and reporting requirements.

Please note: Either HHS staff or staff from organizations that have successfully competed for funding under a separate HHS contract, cooperative agreement or grant will provide technical assistance and training.

II. Award Information

Type of Award: Cooperative Agreement.

HHS involvement in this program is listed in the Activities Section above.

Fiscal Year Funds: 2005.

Approximate Total Funding: $5,000,000.

(This amount is an estimate for the entire four-year project period, and is subject to availability of funds.)

Approximate Number of Awards: One.

Approximate Average Award: $1,000,000.

(This amount is for the first 12-month budget period, and includes direct costs.)

Floor of Award Range: $500,000.

Ceiling of Award Range: $1,000,000. (This ceiling is for the first 12-month budget period and is subject to the availability of funds.)

Anticipated Award Date: September 15, 2005.

Budget Period Length: 12 months.

Project Period Length: Four years.

Throughout the project period, HHS' commitment to continuation of awards will be conditioned on the availability of funds, evidence of satisfactory progress by the recipient (as documented in required reports), and the determination that continued funding is in the best interest of the Federal Government, through the Emergency Plan for AIDS Relief review and approval process for Country Operational Plans, managed by the Office of the U.S. Global AIDS Coordinator.

III. Eligibility Information

III.1. Eligible applicants

Public and private non-profit and for-profit organizations may submit applications, such as:

• Public, non-profit organizations.

• Private, non-profit organizations.

• For-profit organizations.

• Small, minority-owned, and women-owned businesses.

• Universities.

• Colleges.

• Hospitals.

• Community-based organizations.

• Faith-based organizations.

While both U.S.-based and Ivorian organizations are eligible to apply, we will give preference to well-established Ivorian organizations, legally incorporated in Côte d'Ivoire, that have well-developed management and financial control systems and established HIV activities that reach to rural areas of that country.

III.2. Cost Sharing or Matching Funds

Matching funds are not required for this program. Although matching funds are not required, preference will go to organizations that can leverage additional funds to contribute to program goals.

III.3. Other

If applicants request a funding amount greater than the ceiling of the award range, HHS/CDC will consider the application non-responsive, and it will not enter into the review process. We will notify you that your application did not meet the submission requirements.

Special Requirements: If your application is incomplete or non-responsive to the special requirements listed in this section, it will not enter into the review process. We will notify you that your application did not meet submission requirements.

• HHS/CDC will consider late applications non-responsive. See section “IV.3. Submission Dates and Times” for more information on deadlines.

• Applicants may be U.S.-based or Ivorian, but we will give preference to existing organizations legally incorporated in Côte d'Ivoire with well-developed management and financial control and established HIV activities with reach to the northern and western regions of Côte d'Ivoire.

• Applicant must provide documentation that substantiates eligibility criteria. Such proof could include, but is not limited to, official documents that describe legal organizational status, annual, financial, and audit reports, etc.

• Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1.

Electronic Submission

HHS strongly encourages you to submit your application electronically by using the forms and instructions posted for this announcement at http://www.grants.gov, the official Federal agency wide E-grant Web site. Only applicants who apply on-line are permitted to forego paper copy submission of all application forms.

Paper Submission

Application forms and instructions are available on the HHS/CDC Web site, at the following Internet address: http://www.cdc.gov/od/pgo/forminfo.htm.

If you do not have access to the Internet, or if you have difficulty accessing the forms on-line, you may contact the HHS/CDC Procurement and Grants Office Technical Information Management Section (PGO-TIM) staff at 770-488-2700. We can mail application forms to you.

IV.2. Content and Form of Submission

Application: You must submit a project narrative with your application forms. You must submit the narrative in the following format:

• Maximum number of pages: 25. If your narrative exceeds the page limit, we will only review the first pages within the page limit.

• Font size: 12 point unreduced.

• Double-spaced.

• Paper size: 8.5 by 11 inches.

• Page margin size: One inch.

• Printed only on one side of page.

• Held together only by rubber bands or metal clips; not bound in any other way.

• Must be submitted in English.

Your narrative should address activities to be conducted over the entire project period, and must include the following items in the order listed:

• Project Context and Background (Understanding and Need).

• Project Strategy—Description and Methodologies.

• Project Goals.

• Project Outputs.

• Project Contribution to the Goals and Objectives of the Emergency Plan for AIDS Relief.

• Work Plan and Description of Project Components and Activities.

• Performance Measures.

• Timeline (e.g., Henry L. Gantt Chart).

• Management of Project Funds and Reporting.

You may include additional information in the application appendices. The appendices will not count toward the narrative page limit. This additional information includes the following:

• Project Budget.

• Project Budget Notes.

• Curriculum Vitas (copies from current staff who will work on the activity).

• Job Descriptions (summaries of proposed key positions to be created for the activity).

• Quality-Assurance, Monitoring-and-Evaluation and Strategic-Information Forms.

• Applicant's Corporate Capability Statement.

• Letters of Support.

• Evidence of Legal Organizational Structure.

The budget justification will not count in the narrative page limit. Although the narrative addresses activities for the entire project, the applicant should provide a detailed budget only for the first year of activities and broad line items for the other project period years.

You must have a Dun and Bradstreet Data Universal Numbering System (DUNS) number to apply for a grant or cooperative agreement from the Federal government. The DUNS number is a nine-digit identification number, which uniquely identifies business entities. Obtaining a DUNS number is easy, and there is no charge. To obtain a DUNS number, access http://www.dunandbradstreet.com or call 1-866-705-5711. For more information, see the HHS/CDC Web site at: http://www.cdc.gov/od/pgo/funding/pubcommt.htm.

If your application form does not have a DUNS number field, please write your DUNS number at the top of the first page of your application, and/or include your DUNS number in your application cover letter.

Additional requirements that could require you to submit additional documentation with your application are listed in section “VI.2. Administrative and National Policy Requirements.”

IV.3. Submission Dates and Times

Application Deadline Date: September 9, 2005.

Explanation of Deadlines: Applications must be received in the HHS/CDC Procurement and Grants Office by 4 p.m. eastern time on the deadline date.

Applications may be submitted electronically at http://www.grants.gov. We consider applications completed on-line through Grants.gov as formally submitted when the applicant organization's Authorizing Official electronically submits the application to http://www.grants.gov. We will consider electronic applications as having met the deadline if the applicant organization's Authorizing Official has submitted the application electronically to Grants.gov on or before the deadline date and time.

If you submit your application electronically with Grants.gov, your application will be electronically time/date stamped, which will serve as receipt of submission. You will receive an e-mail notice of receipt when HHS/CDC receives the application.

If you submit your application by the United States Postal Service or commercial delivery service, you must ensure the carrier will be able to guarantee delivery by the closing date and time. If HHS/CDC receives your submission after closing because of: (1) Carrier error, when the carrier accepted the package with a guarantee for delivery by the closing date and time, or (2) significant weather delays or natural disasters, you will have the opportunity to submit documentation of the carriers guarantee. If the documentation verifies a carrier problem, HHS/CDC will consider the submission as received by the deadline.

If you submit a hard copy application, HHS/CDC will not notify you upon receipt of your submission. If you have a question about the receipt of your application, first contact your courier. If you still have a question, contact the PGO-TIM staff at (770) 488-2700. Before calling, please wait two to three days after the submission deadline. This will allow time for us to process and log submissions.

This announcement is the definitive guide on application content, submission address, and deadline. It supersedes information provided in the application instructions. If your submission does not meet the deadline above, it will not be eligible for review, and we will discard it. We will notify you that you did not meet the submission requirements.

IV.4. Intergovernmental Review of Applications

Executive Order 12372 does not apply to this program.

IV.5. Funding Restrictions

Restrictions, which you must take into account while writing your budget, are as follows:

• Funds may not be used for research.

• Reimbursement of pre-award costs is not allowed.

• Funds may be spent for reasonable program purposes, including personnel, travel, supplies, and services. Equipment may be purchased if deemed necessary to accomplish program objectives; however, prior approval by HHS/CDC Côte d'Ivoire officials must be requested in writing.

• All requests for funds contained in the budget shall be stated in U.S. dollars. Once an award is made, HHS/CDC will not compensate foreign grantees for currency exchange fluctuations through the issuance of supplemental awards.

• The costs that are generally allowable in grants to domestic organizations are allowable to foreign institutions and international organizations, with the following exception: With the exception of the American University, Beirut and the World Health Organization, Indirect Costs will not be paid (either directly or through sub-award) to organizations located outside the territorial limits of the U.S. or to international organizations, regardless of their location.

• The applicant may contract with other organizations under this program; however, the applicant must perform a substantial portion of the activities

(including program management and operations, and delivery of prevention services for which funds are required).

• You must obtain an annual audit of these HHS/CDC funds (program-specific audit) by a U.S.-based audit firm with international branches and current licensure/authority in-country, and in accordance with International Accounting Standards or equivalent standard(s) approved in writing by HHS/CDC.

• A Fiscal Recipient Capability Assessment may be required, prior to or post award, to review the applicant's business management and fiscal capabilities regarding the handling of U.S. Federal funds.

• Funds received from this announcement will not be used for the purchase of antiretroviral drugs for treatment of established HIV infection (with the exception of nevirapine in Prevention of Mother-to-Child Transmission (PMTCT) cases and with prior written approval), occupational exposures, and non-occupational exposures, and will not be used for the purchase of machines and reagents to conduct the necessary laboratory monitoring for patient care.

• No funds appropriated under this act shall be used to carry out any program of distributing sterile needles or syringes for the hypodermic injection of any illegal drug.

Prostitution and Related Activities

The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides.

A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any recipient must have a policy explicitly opposing prostitution and sex trafficking. The preceding sentence shall not apply to any “exempt organizations” (defined as the Global Fund to Fight AIDS, Tuberculosis and Malaria, the World Health Organization and its six Regional Offices, the International AIDS Vaccine Initiative or to any United Nations agency).

The following definition applies for purposes of this clause:

• Sex trafficking means the recruitment, harboring, transportation, provision, or obtaining of a person for the purpose of a commercial sex act. 22 U.S.C. 7102(9).

All recipients must insert provisions implementing the applicable parts of this section, “Prostitution and Related Activities,” in all subagreements under this award. These provisions must be express terms and conditions of the subagreement, must acknowledge that compliance with this section, “Prostitution and Related Activities,” is a prerequisite to receipt and expenditure of U.S. Government funds in connection with this document, and must acknowledge that any violation of the provisions shall be grounds for unilateral termination of the agreement prior to the end of its term. Recipients must agree that HHS may, at any reasonable time, inspect the documents and materials maintained or prepared by the recipient in the usual course of its operations that relate to the organization's compliance with this section, “Prostitution and Related Activities.”

All prime recipients that receive U.S. Government funds (“prime recipients”) in connection with this document must certify compliance prior to actual receipt of such funds in a written statement that makes reference to this document (e.g., “[Prime recipient's name] certifies compliance with the section, ‘Prostitution and Related Activities.’ ”) addressed to the agency's grants officer. Such certifications by prime recipients are prerequisites to the payment of any U.S. Government funds in connection with this document.

Recipients' compliance with this section, “Prostitution and Related Activities,” is an express term and condition of receiving U.S. Government funds in connection with this document, and any violation of it shall be grounds for unilateral termination by HHS of the agreement with HHS in connection with this document prior to the end of its term. The recipient shall refund to HHS the entire amount furnished in connection with this document in the event HHS determines the recipient has not complied with this section, “Prostitution and Related Activities.”

You may find guidance for completing your budget on the HHS/CDC Web site, at the following Internet address: http://www.cdc.gov/od/pgo/funding/budgetguide.htm.

IV.6. Other Submission Requirements

Application Submission Address

Electronic Submission

HHS/CDC strongly encourages you to submit electronically at http://www.grants.gov. You will be able to download a copy of the application package from http://www.grants.gov, complete it off-line, and then upload and submit the application via the Grants.gov site. We will not accept e-mail submissions. If you are having technical difficulties in Grants.gov, you may reach customer support by e-mail at support@grants.gov or by phone at 1-800-518-4726 (1-800-518-GRANTS). The Customer Support Center is open from 7 a.m. to 9 p.m. Eastern Time, Monday through Friday.

HHS/CDC recommends that you submit your application to Grants.gov early enough to resolve any unanticipated difficulties prior to the deadline. You may also submit a back-up paper submission of your application. We must receive any such paper submission in accordance with the requirements for timely submission detailed in Section IV.3. of the grant announcement. You must clearly mark the paper transmission: “BACK-UP FOR ELECTRONIC SUBMISSION.”

The paper submission must conform to all requirements for non-electronic submissions. If we receive both electronic and back-up paper submissions by the deadline, we will consider the electronic version the official submission.

We strongly recommend that you submit your grant application by using Microsoft Office products (e.g., Microsoft Word, Microsoft Excel, etc.). If you do not have access to Microsoft Office products, you may submit a PDF file. You may find directions for creating PDF files on the Grants.gov Web site. Use of files other than Microsoft Office or PDF could make your file unreadable for our staff.

or

Submit the original and two hard copies of your application by mail or express delivery service to the following address: Technical Information Management Section—AA070, CDC Procurement and Grants Office, U.S. Department of Health and Human Services, 2920 Brandywine Road, Atlanta, GA 30341.

V. Application Review Information

V.1. Criteria

Applicants must provide measures of effectiveness that will demonstrate the accomplishment of the various identified objectives of the cooperative agreement. Measures of effectiveness must relate to the performance goals stated in the “Purpose” section of this announcement. Measures must be objective and quantitative, and must measure the intended outcome. Applicants must submit these measures of effectiveness with the application, and they will be an element of evaluation.

We Will Evaluate Your Application Against the Following Criteria

1. Understanding the National HIV/AIDS Response and Cultural and Political Context in Côte d'Ivoire and Fitting Into the Five-Year Strategy and Goals of the President's Emergency Plan (30 Points)

Does the applicant demonstrate an understanding of the national cultural and political context and the technical and programmatic areas covered by the project? Does the applicant display knowledge of five-year strategy and goals of the President's Emergency Plan, such that, it can build on these to develop a comprehensive, collaborative project to reach underserved populations in Côte d'Ivoire and meet the goals of the Emergency Plan?

2. Capacity Building (20 Points)

Does the applicant describe a plan to progressively build the indigenous capacity of local organizations, and of target beneficiaries and communities, to respond to the epidemic, such that, if the applicant is not an Ivorian organization, at the end of the project period the applicant can turn over management of the project to a local partner or partners?

3. Ability To Carry Out the Proposal (20 Points)

Does the applicant demonstrate the local experience and capability to achieve the goals of the project? Do the staff members have appropriate experience? Are the staff roles clearly defined? Does the applicant currently have the capacity to reach northern and western regions of Côte d'Ivoire despite the complex political situation?

4. Work Plan (15 Points)

Does the applicant describe strategies that are pertinent and matched by those identified in the five-year strategy of the President's Emergency Plan and activities that are evidence-based, realistic, achievable, measurable and culturally appropriate in Côte d'Ivoire to achieve the goals of the Emergency Plan?

5. Management Plan (15 Points)

Is there a plan to manage the resources of the program, prepare reports, monitor and evaluate activities, and audit expenditures?

6. (Not Scored)

Is the budget itemized, well-justified and consistent with the five-year strategy and goals of the President's Emergency Plan and Emergency Plan activities in Côte d'Ivoire? Is the overhead less than 10% of the total budget (including salaries, supplies, rent, and management fees) or less than 5 percent (excluding salaries, rent, office supplies and management fees)?

V.2. Review and Selection Process

The HHS/CDC Procurement and Grants Office (PGO) staff will review applications for completeness, and the HHS Global AIDS program will review them for responsiveness. Incomplete applications and applications that are non-responsive to the eligibility criteria will not advance through the review process. Applicants will receive notification that their applications did not meet submission requirements.

An objective review panel will evaluate complete and responsive applications according to the criteria listed in the “V.1. Criteria” section above. All persons who serve on the panel will be external to the U.S. Government Country Program Office in Côte d'Ivoire. The panel can include both Federal and non-Federal participants.

In addition, the following factors could affect the funding decision:

While U.S.-based organizations are eligible to apply, we will give preference to existing national/Ivorian organizations. It is possible for one organization to apply as lead grantee with a plan that includes partnering with other organizations, preferably local. Although matching funds are not required, preference will go to organizations that can leverage additional funds to contribute to program goals.

Applications will be funded in order by score and rank determined by the review panel. HHS/CDC will provide justification for any decision to fund out of rank order.

V.3. Anticipated Announcement and Award Dates

September 15, 2005.

VI. Award Administration Information

VI.1. Award Notices

Successful applicants will receive a Notice of Award (NoA) from HHS/CDC Procurement and Grants Office. The NoA shall be the only binding, authorizing document between the recipient and HHS/CDC. An authorized Grants Management Officer will sign the NOA, and mail it to the recipient fiscal officer identified in the application.

Unsuccessful applicants will receive notification of the results of the application review by mail.

VI.2. Administrative and National Policy Requirements

45 CFR part 74 and part 92.

For more information on the Code of Federal Regulations, see the National Archives and Records Administration at the following Internet address: http://www.access.gpo.gov/nara/cfr/cfr-table-search.html.

The following additional requirements apply to this project:

• AR-4 HIV/AIDS Confidentiality Provisions

• AR-5 HIV Program Review Panel Requirements

• AR-8 Public Health System Reporting Requirements

• AR-12 Lobbying Restrictions

• AR-14 Accounting System Requirements

• AR-15 Proof of Non-Profit Status

• AR-21 Small, Minority, and Women-Owned Business

Applicants can find additional information on these requirements on the HHS/CDC Web site at the following Internet address: http://www.cdc.gov/od/pgo/funding/ARs.htm.

You need to include an additional Certifications form from the PHS 5161-1 application in your Grants.gov electronic submission only. Please refer to http://www.cdc.gov/od/pgo/funding/PHS5161-1-Certificates.pdf. Once you have filled out the form, please attach it to your Grants.gov submission as Other Attachment Forms.

VI.3. Reporting Requirements

You must provide HHS/CDC with an original, plus two hard copies, of the following reports (in English):

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness, including progress against the numerical goals of the President's Emergency Plan for AIDS Relief for Côte d'Ivoire.

f. Additional Requested Information.

2. Annual progress report, due no more than 60 days after the end of the budget period. Reports should include progress against the numerical goals of the President's Emergency Plan for AIDS Relief for Côte d'Ivoire.

3. Financial status report, due no more than 90 days after the end of the budget period.

4. Final financial and performance reports, no more than 90 days after the end of the project period.

Recipients must mail these reports to the Grants Management Specialist listed in the “Agency Contacts” section of this announcement. Copies of the reports must also be submitted to the Project Management Officer at the HHS/CDC Country Office in Côte d'Ivoire.

Please note: The grantee is responsible for accurate translation of all reports, and should submit French-language versions to the local HHS/CDC office in Abidjan and English-language versions to the HHS/CDC Grants Office in the U.S., by the established deadlines. See the HHS/CDC project management officer in Abidjan for more details.

VII. Agency Contacts

We encourage inquiries concerning this announcement. For general questions, contact: Technical Information Management Section, CDC Procurement and Grants Office, U.S. Department of Health and Human Services, 2920 Brandywine Road, Atlanta, GA 30341. Telephone: 770-488-2700.

For program technical assistance, contact: Monica Nolan, Director, HHS/CDC/Project RETRO-CI, 2010 Abidjan Place, Dulles, Virginia 20189-2010. Telephone: 225-21-25-41-89. E-mail: mnolan@cdc.gov.

For report mailing, contact: Jean-Claude Crinot, Project Management Officer, HHS/CDC /Project RETRO-CI, 01 BP 1712 Abidjan 01. Telephone: 225-21-21-42-50. E-mail: crinotj@gapcdcci.org.

For financial, grants management, or budget assistance, contact: Diane Flournoy, Grants Management Specialist, CDC Procurement and Grants Office, U.S. Department of Health and Human Services, 2920 Brandywine Road, Atlanta, GA 30341. Telephone: 770-488-2072. E-mail: dflournoy@cdc.gov.

VIII. Other Information

Applicants can find this and other HHS funding opportunity announcements on the HHS/CDC Web site, Internet address: http://www.cdc.gov (Click on “Funding” then “Grants and Cooperative Agreements”), and on the Web site of the HHS Office of Global Health Affairs, Internet address: http://www.globalhealth.gov.

Dated: August 9, 2005.
William P. Nichols,
Director, Procurement and Grants Office, Centers for Disease Control and Prevention, U.S. Department of Health and Human Services.

[FR Doc. 05-16174 Filed 8-15-05; 8:45 am]

BILLING CODE 4163-18-P